FEDERAL COMMUNICATIONS COMMISSION

47 CFR Part 73

[DA 09-40; MB Docket No. 08-243; RM-11490]

Radio Broadcasting Services; Charlotte Amalie, VI

AGENCY: Federal Communications Commission.

ACTION: Proposed rule.

SUMMARY: This document requests comments on a petition for rulemaking filed by Western New Life, Inc., licensee of Station WJZG-FM, Channel 254A, Culebra, Puerto Rico, proposing the deletion of vacant Channel 271B at Charlotte Amalie, Virgin Islands to accommodate a hybrid contingent application requesting the substitution of Channel 271A for Channel 254A at Culebra, and modification of the Station WJZG-FM license. The reference coordinates for vacant Channel 271B at Charlotte Amalie are 18-20-36 NL and 64-55-48 WL.

DATES: Comments must be filed on or before March 9, 2009, and reply comments on or before March 24, 2009.

ADDRESSES: Secretary, Federal Communications Commission, 445 Twelfth Street, SW., Washington, DC 20554. In addition to filing comments with the FCC, interested parties should serve the petitioner as follows: Scott C. Cinnamon, Esq., Counsel for Western New Life, Inc., Law Offices of Scott C. Cinnamon, PLLC, 1250 Connecticut Ave., NW., Suite 200, #144, Washington, DC 20036.

FOR FURTHER INFORMATION CONTACT: Rolanda F. Smith, Media Bureau, (202) 418-2180.

SUPPLEMENTARY INFORMATION: This is a synopsis of the Commission's Notice of Proposed Rule Making, MB Docket No. 08-243, adopted January 14, 2009, and released January 16, 2009. Channel 271B at Charlotte Amalie was inadvertently removed from the FM Table of Allotments. See Revision of Procedures Governing Amendments to FM Table of Allotments and Changes of Community of License in the Radio Broadcast Services, Report and Order, 21 FCC Rcd 14212 (2006). As a result, this document does not contain any amendatory language. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
John A. Karousos,
Assistant Chief, Audio Division Media Bureau.

[FR Doc. E9-2385 Filed 2-4-09; 8:45 am]

BILLING CODE 6712-01-P